DEPARTMENT OF AGRICULTURE

Forest Service

East Fredericktown Project, Mark Twain National Forest, Bollinger, Madison St. Francis, Ste. Genevieve Counties, MO

AGENCY: Forest Service, USDA.

ACTION: Revised Notice of Intent to prepare an Environmental Impact Statement.

SUMMARY: The Forest Service will prepare an environmental impact statement (EIS) to analyze and disclose the environmental effects of proposed land management activities and corresponding alternatives within the East Fredericktown project area. The East Fredericktown project area is located on National Forest System lands administered by the Potosi/Fredericktown Ranger District east of Fredericktown, Missouri. The legal description of the project area is: Township 32 North, Range 7 East, Sections 11-13; Township 32 North, Range 8 East, Sections 3, 6-11, 15, 18, 19, 21-23, 25, 26, 34-36; Township 33 North, Range 8 East, Sections 29, 30, 35; Township 34 North, Range 7 East, Sections 12, 36; Township 34 North Range 8 East, Sections 2-4, 9, 17, 19-21, 28-33; Township 35 North, Range 8 East, Sections 9, 11-14, 16, 19-30, 34-36; Township 35 North, Range 7 East, Section 24, Fifth Principal Meridian.

An EIS is being prepared for this project although years of experience have shown that the effects of implementing similar activities in the area are not significant. We do not feel that an EIS is required, however, due to the increase in appeals and litigation and for wise fiscal efficiency, an EIS will be prepared for the East Fredericktown Project.

The purpose of this project is to implement land management activities that are consistent with the direction in the Mark Twain Land and Resource Management Plan (Forest Plan) and to respond to specific needs identified in the project area. The project-specific needs include: emphasizing the management of shortleaf pine in its natural range on sites where it is recognized as a dominant or characteristic member of the natural community and examining opportunities to minimize adverse impacts from insects and disease on forest vegetation. Other needs include wildlife habitat maintenance and improvement, recreation management, examining road system needs, cleanup of illegal dumps, and associated or connected actions.

DATES: An original Notice of Intent was published in the Federal Register on April 29, 2003. Comments concerning the proposed land management activities should have been received within 30 days following original publication date. The Forest Service expects to file a Draft EIS with the Environmental Protection Agency and make it available for public comment by December 2004.

ADDRESSES: Send written comments to: District Ranger, Potosi/Fredericktown Ranger, District, P.O. Box 188, Potosi, Missouri 63664. E-mail should be sent to: comments-eastern-mark-twain-potosi@fs.fed.us.

FOR FURTHER INFORMATION CONTACT: Tom McGuire, Project Leader/Integrated Resource Analyst, Potosi/Fredericktown Ranger District, P.O. Box 188, Posoti, Missouri 63664, phone (573) 438-5427.

SUPPLEMENTARY INFORMATION: This is a revised Notice of Intent for the prior notice promulgated in the Federal Register, Vol. 68, No. 82, pp. 22672-22673, on April 29, 2003. The scope of the project has not changed; therefore, this revised Notice of Intent does not initiate a second scoping period for this proposal. The Notice of Intent is being revised because the Draft EIS has been delayed more than six months. The original release date was expected to be September 2003; the new expected release date is December 2004, and the Final EIS is expected to be released in March 2005.

Estimated Dates for Filing

The draft EIS is expected to be filed with the Environmental Protection Agency and available for public review in December 2004. A 45-day comment period will follow publication of a Notice of Availability of the draft EIS in the Federal Register. Comments received on the draft EIS will be analyzed and considered in preparation of a final EIS, expected in March 2005. A Record of Decision (ROD) will also be issued at that time along with the publication of a Notice of Availability of the final EIS and ROD in the Federal Register.

Reviewers Obligation To Comment

The Forest Service believes it is important at this early stage to give reviewers notice of several court rulings related to public participation in the environmental review process. First, reviewers of the draft EIS must structure their participation in the environmental review of the proposal in such a way that it is meaningful and alerts an agency to the reviewer's position and contentions. Vermont Yankee Nuclear Power Corp. v. NRDC, 435 U.S. 519, 513 (1978). Also, environmental objections that could be raised at the draft EIS stage but that are not raised until after completion of the final EIS may be waived or dismissed by the courts. City of Angoon v. Hodel, 803 F.2d 1016, 1022 (9th Cir, 1986), and Wisconsin Heritages Inc. v. Harris, 490 F. Supp. 1334, 1338 (E.D. Wis., 1980). Because of these court rulings, it is very important that those interested in this proposed action participate by the close of the 45-day comment period of the draft EIS in order that substantive comments and objections are available to the Forest Service at a time when it can meaningfully consider them and respond to them in the final EIS. To assist the Forest Service in identifying and considering issues and concerns on the proposed action, comments should be as specific as possible. Reviewers may wish to refer to the Council on Environmental Quality Regulations for implementing the procedural provisions of the National Environmental Policy Act at 40 CFR 1503.3 in addressing these points.

Responsible Official

The responsible official for this environmental impact statement is Ronnie Raum, Forest Supervisor, Mark Twain National Forest.

Dated: March 15, 2004.
Katherine W. Stuart,
District Ranger, Potosi/Fredericktown Ranger District.

[FR Doc. 04-6493 Filed 3-23-04; 8:45 am]

BILLING CODE 3410-11-M